ENVIRONMENTAL PROTECTION AGENCY

[FRL-12114-01-OEJECR]

National Environmental Justice Advisory Council; Notice of Charter Renewal

AGENCY: Environmental Protection Agency (EPA).

ACTION: Notice of charter renewal.

SUMMARY: Notice is hereby given that the Environmental Protection Agency (EPA) has determined that, in accordance with the provisions of the Federal Advisory Committee Act (FACA), the National Environmental Justice Advisory Council (NEJAC) is necessary and in the public interest in connection with the performance of duties imposed on the agency by law. Accordingly, NEJAC will be renewed for an additional two-year period. The purpose of the NEJAC is to provide advice and recommendations to the Administrator about issues associated with integrating environmental justice concerns into EPA's outreach activities, public policies, science, regulatory, enforcement, and compliance decisions.

FOR FURTHER INFORMATION CONTACT: Inquiries may be directed to Paula Flores Gregg, NEJAC Designated Federal Officer, U.S. EPA, at (214) 665-8123 or via email at nejac@epa.gov.

Laura Ebbert,
Acting Deputy Assistant Administrator for Environmental Justice, Office of Environmental Justice and External Civil Rights.

[FR Doc. 2024-16771 Filed 7-31-24; 8:45 am]

BILLING CODE 6560-50-P